SURFACE TRANSPORTATION BOARD

[Docket No. FD 35802]

Northwest Tennessee Regional Port Authority—Construction and Operation Exemption—in Lake County, Tenn.

AGENCY: Surface Transportation Board.

ACTION: Notice of construction and operation exemption.

SUMMARY: The Board is granting an exemption under 49 U.S.C. 10502 from the prior approval requirements of 49 U.S.C. 10901 for Northwest Tennessee Regional Port Authority (NWTRPA) to construct and operate approximately 5.5 miles of new rail line in Lake County, Tenn. (the Line). The Line would extend from a connection with an existing line of railroad near Tiptonville, Tenn., to the site of a newly constructed port on the Mississippi River at Cates Landing (Port). The Line would serve the Port as well as a new industrial park being developed by Lake County in conjunction with the Port. The purpose of the proposed construction is to attract industrial and commercial activity in Lake County and to provide rail service to an area that does not currently have it. This exemption is subject to environmental mitigation conditions and the requirement that NWTRPA build the environmentally preferable route (the route designated as Alternative A).

DATES: The exemption will become effective on May 21, 2016; petitions to reconsider or reopen must be filed by May 11, 2016.

ADDRESSES: An original and 10 copies of all pleadings, referring to Docket No. FD 35802 must be filed with the Surface Transportation Board, 395 E Street SW., Washington, DC 20423-0001. In addition, one copy of each filing must be served on petitioner's representative: John D. Heffner, Strasburger & Price, LLP, 1025 Connecticut Ave. NW., Suite 717, Washington, DC 20036.

FOR FURTHER INFORMATION CONTACT: Scott Zimmerman at (202) 245-0386. Assistance for the hearing impaired is available through the Federal Information Relay Services (FIRS) at 1-800-877-8339.

SUPPLEMENTARY INFORMATION: Additional information is contained in the Board's decision. Board decisions and notices are available on our Web site at WWW.STB.DOT.GOV.

Decided: April 19, 2016.
By the Board, Chairman Elliott, Vice Chairman Miller, and Commissioner Begeman.
Brendetta S. Jones,
Clearance Clerk.

[FR Doc. 2016-09515 Filed 4-22-16; 8:45 am]

BILLING CODE 4915-01-P